DEPARTMENT OF LABOR

Office of the Secretary

Enhancing Skills of Colombian Trade Unionists

AGENCY: Bureau of International Labor Affairs, Department of Labor.

Announcement Type: New. Notice of Availability of Funds and Solicitation for Cooperative Agreement Applications. The full announcement is posted on http://www.Grants.Gov as well as on the DOL Web site at http://www.dol.gov/ilab.

Funding Opportunity Number: SGA 08-09.

Catalog of Federal Domestic Assistance (CFDA) Number: Not applicable.

Key Dates: The closing date for receipt of applications is June 6, 2008 via Grants.gov.

Executive Summary: This notice contains all of the information and forms needed to apply for grant funding. The U.S. Department of Labor, Bureau of International Labor Affairs, announces the availability of up to USD $1.25 million to be granted by Cooperative Agreement for a project to improve trade union skills of Colombian trade unionists through a U.S. based training program.

I. Funding Opportunity Description

The U.S. Department of Labor (USDOL), Bureau of International Labor Affairs (ILAB), announces the availability of $1.25 million to be awarded by Cooperative Agreement (hereinafter referred to as “grant” or “Cooperative Agreement”) to a qualifying international organization that has experience working to promote core labor standards and improve labor-management relations in Colombia by working in a tripartite manner (government, employers, and unions). ILAB is authorized to award and administer this program by the Department of Labor Appropriations Act, 2008, Public Law 110-161, 121 Stat. 1844 (2007). The Cooperative Agreement awarded under this initiative will be managed by ILAB's Office of Trade and Labor Affairs. The duration of the project funded by this solicitation is two to three years. The start date of program activities will be negotiated upon award of the Cooperative Agreement, but will be no later than September 30, 2008.

The full Solicitation for Grant Application is posted on http://www.Grants.Gov under U.S. Department of Labor/ILAB. Only Applications submitted through http://www.Grants.Gov will be accepted. If you need to speak to a person concerning these grants, or if you have issues regarding access to the Grants.gov Web site, you may telephone Lisa Harvey at 202-693-4570 (not a toll-free number).

Signed at Washington, DC, this 25th day of April, 2008.
Lisa Harvey,
Grant Officer.

[FR Doc. E8-9470 Filed 4-30-08; 8:45 am]

BILLING CODE 4510-28-P